DEPARTMENT OF AGRICULTURE

Natural Resources Conservation Service

[Docket No. NRCS-2024-0002]

Notice of Intent To Prepare an Environmental Impact Statement for the Clarke County Water Supply Project, Clarke County, Iowa

AGENCY: Natural Resources Conservation Service, USDA.

ACTION: Notice of Intent (NOI) to prepare an Environmental Impact Statement (EIS).

SUMMARY: The Natural Resources Conservation Service (NRCS) Iowa State Office announces its intent to prepare a watershed plan for the Clarke County Water Supply project, which is located approximately 27.2 miles upstream of the confluence with the South River in the proximity of Osceola, Iowa. The proposed watershed plan will examine alternative solutions to the limited availability of a reliable water supply. The Clarke County Water Supply project includes the cities of Osceola, Murray, and Woodburn, Iowa, and the Clarke County rural service area. NRCS is requesting comments to identify significant issues, potential alternatives, information, and analyses relevant to the proposed action from all interested individuals, Federal and State agencies, and Tribes.

DATES: We will consider comments that we receive by May 6, 2024. We will consider comments received after close of the comment period to the extent possible.

ADDRESSES: We invite you to submit comments in response to this notice. You may submit your comments through one of the methods below:

• Federal eRulemaking Portal: Go to http://www.regulations.gov and search for docket ID NRCS-2024-0002. Follow the online instructions for submitting comments; or

• Mail or Hand Delivery: Jon Hubbert, State Conservationist, Natural Resources Conservation Service, 210 Walnut Street Room 693, Des Moines, IA 50309. In your comments, specify the docket ID NRCS-2024-0002.

All comments received will be posted without change and made publicly available on www.regulations.gov.

FOR FURTHER INFORMATION CONTACT: Jon Hubbert; telephone: (515) 284-4769; email: jon.hubbert@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose of the watershed plan is to provide a reliable drinking water supply to meet current and future demands in Clarke County, Iowa. Watershed planning is authorized under the Watershed Protection and Flood Prevention Act of 1954 (Pub. L. 83-566), as amended, and the Flood Control Act of 1944 (Pub. L. 78-534). The sponsoring local organization (SLO) is the Clarke County Reservoir Commission (CCRC) whose members are the cities of Osceola, Murray, and Woodburn, Iowa; Clarke County, Iowa; Osceola Water Works Board of Trustees; and Southern Iowa Rural Water Association (SIRWA).

The study area includes all of Clarke County where the water supply is provided by the existing West Lake Reservoir. Osceola Water Works treats raw water from West Lake, which is the sole water supply source reservoir. SIRWA purchases potable water from Osceola Water Works and distributes it to other users in Clarke County.

This action is needed to address deficiencies in the agricultural water delivery system, which are having negative impacts on current public health and economic growth. Limited water supply can impact public health and safety due to the lack of safe drinking water and the lack of water supply for other public needs, such as firefighting. Quality of life for residents is impacted due to the potential for water use restrictions during droughts. Economic growth has been limited in the area because the supply is too limited to support new businesses. Additionally, future water demands are anticipated to grow, and the current supply will be increasingly insufficient.

The reservoir at West Lake has insufficient storage during moderate to severe droughts. The reservoir has gone through substantial draw down during four drought periods over the last 40 years requiring various degrees of water restrictions. West Lake is in its third year with lake levels below the spillway and Clarke County remains in a moderate to severe drought. The remaining water supply in West Lake was estimated to be less than a year in October 2023. The water conservation ordinance has been increased to Section 3—Water Emergency.

To meet the purpose of agricultural water supply for the Clarke County service area, a safe and reliable water supply with an average daily capacity of 2.0 million gallons per day is being requested. There is a long history of water supply investigations in Clarke County. The city of Osceola commissioned a study by an engineering firm in 1990 to evaluate West Lake. The result of the study showed that West Lake would not meet the projected water supply demand. At the request of local officials, USDA Soil Conservation Service conducted a study of six potential sites and published the results in a report titled, “Reconnaissance Report: Potential Water Supply Reservoirs, City of Osceola and Rural Users, Clarke County, Iowa” (1991). Local sponsors made requests for PL-566 planning assistance in 1992 and 1996, however funding for pre-authorization planning activities was not available on either occasion. Two other studies, one in 1996 and the other in 1999, were conducted evaluating alternative water supply sources and the potential for increasing yield from West Lake. In 2002, the Osceola Water Board of Trustees, rural users, and other sponsoring bodies organized and formed a 28E organization to become the CCRC. The CCRC requested planning assistance from NRCS in 2003 which was authorized late in 2004.

Estimated federal funds required for the construction of the proposed action may exceed $25 million and the proposed action will, therefore, require congressional approval per the Consolidated Appropriations Act, 2018 amended funding threshold. In accordance with the regulation in 7 CFR 650.7(a)(2), an EIS is required for projects requiring congressional approval.

Preliminary Proposed Action and Alternatives

The EIS objective is to formulate and evaluate alternatives for the agricultural water supply in the Clarke County service area. The EIS is expected to evaluate three alternatives: two action alternatives, and one no action alternative. The alternatives that may be considered for detailed analysis include:

• Alternative 1—Proposed Action—Water Supply Reservoir: The proposed action is to evaluate a water supply reservoir developed with a dam at site 4B, which would include an earthfill embankment dam with reinforced concrete pressure pipe spillway and vegetated auxiliary spillway. The proposed project would also include a 6-mile water supply pipeline to transport water from the reservoir to the water treatment plant. The dam construction and inundated area would require the relocation of a segment of a local road (Truro Pavement). The normal pool (at 1001 foot elevation) would inundate 790 acres. The maximum height of the dam would be 58 feet. The reservoir has 11,030 acre-feet of storage and a design withdrawal capacity of 2.0 million gallons per day on an average daily basis during drought conditions, which would meet the need of the project.

• Alternative 2—Proposed Action—Single Purpose Water Supply Pipeline: The proposed action would evaluate purchasing water from Des Moines Water Works. This alternative would require a one-time construction cost to install of 20-inch diameter pipeline 38.5 miles long from the Des Moines Waterworks to the City of Osceola, and a booster station in between. A buy-in fee would be part of the start-up cost for service. Monthly rates and fees for treated water use would apply over the life of the project. The proposed action would be able to provide 2.0 million gallons per day on an average daily basis during drought conditions which would meet the need of the project.

• Alternative 3—No Action Alternative: Taking no action would consist of activities conducted if no federal action or funding were provided. If the No Action Alternative is selected water supply limitations would continue to impact residents of Clarke County quality of life, public health and safety, and future economic growth. No federal action or funding would be associated with the No Action Alternative.

Summary of Expected Impacts

As mentioned above, the estimated Federal contribution to construction cost will exceed $25 million. The EIS will be prepared as required by section 102(2)(C) of the National Environmental Policy Act of 1969 (NEPA); the Council on Environmental Quality Regulations (40 CFR parts 1500-1508); and NRCS regulations that implement NEPA in 7 CFR part 650.

CCRC and NRCS evaluated the current relevant project conditions with early scoping and a preliminary conceptual design, which indicates that the proposed alternatives may have local, regional, or national impacts on the environment. The impacts may include: dam structure and inundation from the reservoir; temporary and adverse impacts from construction activities; and permanent beneficial impacts from adequate drinking water supply. NRCS will coordinate with the appropriate federal agencies throughout the planning process to minimize impacts, and consider mitigation.

Potential effects include the following:

• soils;

• prime and unique farmland;

• land use;

• water resources, including wetlands, streams, and water quality;

• floodplains;

• terrestrial and aquatic wildlife, including threatened and endangered species and those included under the Migratory Bird Treaty Act;

• cultural resources and historic properties;

• public health, safety, and transportation; and

• social and economic conditions.

Long-term beneficial effects would occur with an increase in agricultural water supply.

Anticipated Permits and Authorizations

The following permits and authorizations are anticipated to be required:

• Clean Water Act (CWA) and National Pollutant Discharge Elimination System (NPDES). The project would require water quality certification under Section 401 of the CWA, permitting under Section 402 of the NPDES, and Section 404 of the CWA for potential wetland impacts.

• Endangered Species Act Section 7. NRCS and CCRC are currently developing a Biological Assessment (BA) to support ESA Section 7 consultation with the U.S. Fish and Wildlife Service.

• National Historic Preservation Act (NHPA) Section 106. Consultation with Tribal Nations and interested parties would be conducted as required by the NHPA.

• National Flood Insurance Program. A Letter of Map Revision/Conditional Letter of Map Revision would be required from the Federal Emergency Management Agency.

• Dam Safety and Floodplain Permit. Local dam safety and floodplain permits will be required for construction and operation of the dam from the Iowa Department of Natural Resources (IDNR) as required in Iowa Administrative Code (IAC) 567.

• IAC, Environmental Protection Commission 567, Chapter 43, Water Supplies—Design and Operation. Water Supply Storage, Water Use, and Construction Permits must be obtained from IDNR Water Supply Engineering Section for the Reservoir, Intake and Pipeline. Requirements must be met for the Water Allocation and Use program, including a Water Use Permit. Construction standards for public water supplies must be met as set forth under IAC 567, Chapter 43.

• Review and acceptance of Final Engineering Plans and Specifications. The final design and construction drawings and specifications must be reviewed and approved by IDNR and NRCS prior to implementation. Using the NRCS National Operation and Maintenance Manual (O&M), an O&M plan will be prepared.

• Development—Conditional Use Permit, Grading Permit, Utility Permit, and Entrance Permit. These are all local permits that must be obtained from Clarke County.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 6 months after publication of this NOI. A Final EIS is anticipated to be published within 6 months of completion of the public comment period for the DEIS.

NRCS will decide whether to implement one of the action alternatives as evaluated in the EIS. A Record of Decision will be completed after the required 30-day waiting period and will be publicly available. The responsible Federal official and decision maker for the NRCS is the Iowa NRCS State Conservationist.

Public Scoping Process

A public scoping meeting was held on August 19, 2021. Comments received, including the names and addresses of those who commented, were part of the public record. Scoping meeting presentation materials were available for review and comment for 30 days from Thursday, August 19, 2021, through Saturday, September 18, 2021.

Federal, State, Tribal, local agencies and representatives, and the public were invited to take part in the watershed plan scoping period through which coordination sought input on issues of economic, environmental, cultural, and social importance in the watershed. CCRC and NRCS organized the public scoping meeting to provide an opportunity to review and evaluate the project alternatives, express concern or support, and gain further information regarding the project. To determine the most viable alternatives to carry forward to the EIS, the CCRC used input obtained during public scoping discussions to focus on relevant resource concerns and issues and eliminated those that were not relevant from further detailed study.

Identification of Potential Alternatives, Information, and Analyses

NRCS invites agencies, Tribes, consulting parties, and individuals who have special expertise, legal jurisdiction, or interest in the Clarke County Water Supply project to provide comments concerning the scope of the analysis and identification of potential alternatives, information, and analyses relevant to the Proposed Action.

NRCS will coordinate the scoping process to correspond with any required NHPA processes, as allowed in the regulations in 36 CFR 800.2(d)(3) and 800.8 (54 U.S.C. 306108). The information about historic and cultural resources within the area potentially affected by the proposed project will assist NRCS in identifying and evaluating impacts to such resources in the context of both NEPA and NHPA.

NRCS will consult with Native American tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended, and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Jon Hubbert,
Iowa State Conservationist, Natural Resources Conservation Service.

[FR Doc. 2024-07291 Filed 4-4-24; 8:45 am]

BILLING CODE 3410-16-P